Proclamation 10045 of May 29, 2020

Great Outdoors Month, 2020

By the President of the United States of America

A Proclamation

Our Nation is blessed with abundant natural beauty that can be enjoyed every season from coast to coast. During Great Outdoors Month, we celebrate the majestic mountains, forests, canyons, beaches, and rivers that provide recreation and renewal for all Americans, enriching our lives and strengthening an enduring connection to our national heritage.

Our parks, recreational areas, and public lands are some of our greatest national treasures. For centuries, Americans have looked to the sprawling expanse of America's outdoor spaces as a source of adventure, sustenance, and inspiration. From the lands and waters that constitute our National Park System, to State, local, and city parks, to our own backyards, every unique experience of the great outdoors helps improve our health and offers opportunities for families, friends, and communities to connect over a shared appreciation for the natural world.

My Administration remains committed to restoring and preserving our land, air, and waters while also opening up more recreational opportunities for all Americans. We have provided increased access to public lands, expanding hunting and fishing opportunities at national wildlife refuges and national fish hatcheries across 1.7 million acres. Last year, I was proud to sign the largest public lands legislation in a decade, designating 1.3 million new acres of wilderness and increasing recreational access for hunters, fishers, boaters, and campers. Additionally, I announced that the United States will be joining the One Trillion Trees Initiative, an ambitious effort to bring together government and private sector partners and further our commitment to maintaining our natural world. Through these actions, we are actively promoting a conservation ethic that drives responsible stewardship of our environment.

Whether hiking on world-class trails, camping under the stars, or fishing our Nation's abundant waterways, exploring the great outdoors provides adventurers of all ages endless opportunities to create lifelong memories. This month, we pause to appreciate the extraordinary natural beauty of our country, and we recommit to protecting and preserving our natural wonders for future generations.

NOW, THEREFORE, I, DONALD J. TRUMP, President of the United States of America, by virtue of the authority vested in me by the Constitution and the laws of the United States, do hereby proclaim June 2020 as Great Outdoors Month. I urge all Americans to explore the great outdoors while acting as stewards of our lands and waters.

IN WITNESS WHEREOF, I have hereunto set my hand this twenty-ninth day of May, in the year of our Lord two thousand twenty, and of the Independence of the United States of America the two hundred and forty-fourth.

[FR Doc. 2020-12416

Filed 6-4-20; 11:15 am]

Billing code 3295-F0-P